DEPARTMENT OF DEFENSE

[DOD-2006-OS-0163]

Defense Finance and Accounting Service; Privacy Act of 1974; Systems of Records

AGENCY: Defense Finance and Accounting Service, DoD.

ACTION: Notice To Add a New System of Records.

SUMMARY: The Defense Finance and Accounting Service (DFAS) is proposing to add a system of records notice to its inventory of record systems subject to the Privacy Act of 1974 (5 U.S.C. 552a), as amended.

DATES: This Action will be effective without further notice on August 25, 2006 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on July 20, 2006, to the House Committee on Government Reform, the Senate Committee on Governmental Affairs, and the Office of Management and Budget (OMB) pursuant to paragraph 4c of Appendix I to OMB Circular No. A-130, “Federal Agency Responsibilities for Maintaining Records About Individuals,” dated December 12, 2000, 65 FR 239.

Dated: July 20, 2006.
C.R. Choate,
Alternate OSD Federal Register Liaison Officer, Department of Defense.

T-7900

System name:

Operational Data Store (ODS) System.

System location:

Defense Enterprise Computing Center—St. Louis, Post Office Box 20012, St. Louis, MO 63120-0012.

Defense Finance and Accounting Service—Indianapolis, (SDS-TSDBC), 8899 East 56th Street, Indianapolis, IN 46249-2700.

Categories of individuals covered by the system:

Army Active and Reserve military members, members of the Army National Guard, military academy cadets, and Army Reserve Officer Training Corps (ROTC) students. DoD civilian employees paid by appropriated funds.

Categories of records in the system:

Individual's name, Social Security Number, home address, employing DoD and other Federal agencies, military branch of service, status (as appropriate), maintained in various Operational Data Store System database tables.

Authority for maintenance of the system:

5 U.S.C. 301, Departmental Regulations; 31 U.S.C. 3512 and 3513; E.O. 9397; and DoD Directive 5118.5, Defense Finance and Accounting Service.

Purpose(s):

To permit DFAS and Army financial managers the ability to retrieve, and review and update financial payment information. Database records are also used for extraction or compilation of data and reports for budget execution status and statistical analyses for use internally or externally as required by DoD or other government agencies.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, State, and local agencies for the purpose of conducting computer matching programs regulated by the Privacy Act of 1974, as amended, (5 U.S.C. 552a).

The ‘Blanket Routine Uses’ published at the beginning of the DFAS compilation of systems of records notices apply to this system.

Policies and practices for storing, retrieving, accessing, retaining, and disposing of records in the system:

Storage:

Records are stored electronically in an Oracle database system.

Irretrievability:

Information is retrieved by name and Social Security Number.

Safeguards:

Records are stored in an office building protected by guards, controlled screening, use of visitor registers, electronic access, and/or locks. Access to records is limited to individuals who are properly screened and cleared on a need to know basis in the performance of their duties. Passwords and digital signatures are used to control access to the system data, and procedures are in place to deter and detect browsing and unauthorized access. Physical and electronic access are limited to persons responsible for servicing and authorized to use the system.

Retention and disposal:

Records may be temporary in nature and deleted when actions are completed, superseded, obsolete, or no longer needed. Other records may be cut off at the end of the payroll year, or destroyed up to 6 years and 3 months after cutoff.

System manager(s) and address:

Defense Finance and Accounting Service—Indianapolis, Operational Data Store System Manager, (SDS-TSDBC), 8899 East 56th Street, Indianapolis, IN 46249-2700.

Notification procedure:

Individuals seeking to determine whether information about themselves is contained in this record system should address written inquiries to the Defense Finance and Accounting Service, Freedom of Information/Privacy Act Program Manager, Corporate Communications and Legislative Liaison, 6760 E. Irvington Place, Denver, CO 80279-8000.

Individuals should furnish full name, Social Security Number, current address, and telephone number.

Record access procedures:

Individuals seeking access to information about themselves contained in this system should address written inquiries to Defense Finance and Accounting Service, Freedom of Information/Privacy Act Program Manager, Corporate Communications and Legislative Liaison, 6760 E. Irvington Place, Denver, CO 80279-8000.

Individuals should furnish full name, Social Security Number, current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual concerned, Federal agencies or other DoD Components.

Exemptions claimed for the system:

None.

[FR Doc. 06-6483 Filed 7-25-06; 8:45 am]

BILLING CODE 5001-06-M